DEPARTMENT OF DEFENSE

Office of the Secretary

Proposed Collection; Comment Request

AGENCY: Office of the Secretary, DoD.

ACTION: Notice.

In compliance with section 3506(c)(2)(A) of the Paperwork Reduction Act of 1995, the Office of Equal Employment Opportunity of the National Security Agency announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration to be given to all comments received by January 17, 2005.

ADDRESSES: Written comments and recommendations on the proposed information collection should be sent to the Department of Defense, National Security Agency, Suite 6251, ATTN: Anita R. Vann, Fort George G. Meade, MD 20755-6000.

FOR FURTHER INFORMATION CONTACT: To request more information on this proposed information collection or to obtain a copy of the proposal and associated collection instruments, please write to the above address, or call the National Security Agency, Office of Equal Employment Opportunity at 301-688-7592.

Title; Associated Form; and OMB Number: Background Survey Questionnaire; NSA Form XXX; OMB Number 0704-TBD.

Needs and Uses: The information collection requirement is necessary to obtain and record pertinent information to determine if our recruitment efforts are reaching all segments of the country, as required by Federal law. This is vital information that is not available from any other source.

Affected Public: Individuals or households.

Annual Burden Hours: 17,500.

Number of Respondents: 2,500.

Responses Per Respondent: 1.

Average Burden Per Response: 8 minutes.

Frequency: On occasion.

SUPPLEMENTARY INFORMATION:

Summary of Information Collection

Respondents are members of the general public with diverse backgrounds, educational levels, and skills that pursue employment with the National Security Agency. The information will be used to determine if our recruitment efforts are reaching all segments of the country, as required by Federal law. The information collected is not available from any other sources. The vital information can only be obtained directly from the applicant. The information is not released to the panel rating the application, to selection officials, to anyone else who can affect the application, or to the public.

Dated: September 8, 2005.
Patricia L. Toppings,
Alternate OSD Federal Register, Liaison Officer, Department of Defense.

[FR Doc. 05-22680 Filed 11-15-05; 8:45 am]

BILLING CODE 5001-06-M